FEDERAL RETIREMENT THRIFT INVESTMENT BOARD

Sunshine Act; Notice of Meeting

TIME AND DATE: 10 a.m. (Eastern Time), March 26, 2012.

PLACE: 10th Floor Conference Room, 77 K Street NE., Suite 1000, Washington, DC 20002.

STATUS: Parts will be open to the public and parts will be closed to the public.

MATTERS TO BE CONSIDERED:

Parts Open to the Public

1. Approval of the Minutes of the February 27, 2012 Board Member Meeting.

2. Thrift Savings Plan Activity Report by the Executive Director:

a. Monthly Participant Activity Report.

b. Investment Performance Report.

c. Legislative Report.

Parts Closed to the Public

3. Predecisional Matters.

CONTACT PERSON FOR MORE INFORMATION: Kimberly A. Weaver, Director, Office of External Affairs, (202) 942-1640.

Dated: March 16, 2012.
Megan G. Grumbine,
Acting Secretary, Federal Retirement Thrift Investment Board.

[FR Doc. 2012-6808 Filed 3-16-12; 4:15 pm]

BILLING CODE 6760-01-P